FEDERAL RESERVE SYSTEM

Change in Bank Control Notices, Acquisition of Shares of Bank or Bank Holding Companies; Correction

This notice corrects a notice (FR Doc. E9-6407 published on page 12362 of the issue for Tuesday, March 24, 2009.

Under the Federal Reserve Bank of Kansas City heading, the entry for David Rossiter, Hartington, Nebraska, is revised to read as follows:

A. Federal Reserve Bank of Kansas City (Todd Offerbacker, Assistant Vice President) 925 Grand Avenue, Kansas City, Missouri 64198-0001:

1. Donald Rossiter, Hartington, Nebraska, individually and as trustee of the Mary E. Rossiter Trust; and Carol F. Rossiter, Macon, Georgia, individually and as trustee of the Mary E. Rossiter Trust, and the Margaret R. Rossiter Trust; Donald W. Rossiter; Carol F. Rossiter; Phyllis Schrempp; J. Scott Schrempp; Christine Rossiter; and Leon Schrempp, a group acting in concert, to retain voting shares of Cedar Bancorp, Inc., and thereby indirectly retain voting shares of Bank of Hartington, both in Hartington, Nebraska.

Comments on this application must be received by April 6, 2009.

Board of Governors of the Federal Reserve System, March 24, 2009.
Robert deV. Frierson,
Deputy Secretary of the Board.

[FR Doc. E9-6842 Filed 3-26-09; 8:45 am]

BILLING CODE 6210-01-S